DEPARTMENT OF ENERGY

Federal Energy Regulatory Commission

[Project No. 4113-067]

Oswego Hydro Partners, LP; Notice of Scoping Meetings and Environmental Site Review and Soliciting Scoping Comments

Take notice that the following hydroelectric application has been filed with the Commission and is available for public inspection.

a. Type of Application: New Major License.

b. Project No.: 4113-067.

c. Date Filed: February 27, 2024.

d. Applicant: Oswego Hydro Partners, LP.

e. Name of Project: Phoenix Hydroelectric Project.

f. Location: On the Oswego, Oneida, and Seneca Rivers in Onondaga and Oswego counties, New York.

g. Filed Pursuant to: Federal Power Act, 16 U.S.C. 791(a)-825(r).

h. Applicant Contact: Jody Smet, Vice President Regulatory Affairs, Eagle Creek Renewable Energy, LLC, 7315 Wisconsin Avenue, Suite 1100W, Bethesda, MD 20814; telephone at (240) 482-2700; email at Jody.smet@eaglecreekre.com.

i. FERC Contact: Joshua Dub, Project Coordinator, Great Lakes Branch, Division of Hydropower Licensing; telephone at (202) 502-8138; email at Joshua.Dub@ferc.gov.

j. Deadline for filing scoping comments: September 9, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Phoenix Hydroelectric Project (P-4113-067).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. Project Description: The Phoenix Project consist of a concrete dam, known as the Phoenix Dam, that includes: (1) an approximately 90-foot-long, 55-foot-wide powerhouse that is integral with the dam and includes: (a) north and south intake openings with a trashrack with 1-inch clear bar spacing; and (b) two 1.59-MW vertical Kaplan turbine-generator units, for a total installed capacity of 3.18 MW; (2) a section with a 10-foot-long debris sluice gate and a 7-foot-long sluice gate that provides downstream fish passage; (3) a 163-foot-long, 14-foot-high ogee spillway with 1-foot-high flashboards that have a crest elevation of 362.42 feet North American Vertical Datum of 1988 (NAVD 88); (4) an approximately 206-foot-long section with four Tainter gates; (5) a 390-foot-long, 14-foot-high ogee spillway with 1-foot-high flashboards that have a crest elevation of 362.42 feet NAVD 88; and (6) a 107-foot-long section with two Tainter gates.

The 107-foot-long Tainter gate section of Phoenix Dam abuts Lock Island, which is a non-project feature that spans approximately 150 feet of the Oswego River. In addition, a non-project lock, known as the Phoenix Lock, spans approximately 45 feet of the Oswego River between Lock Island and the east shoreline of the Oswego River. Together, the Phoenix Dam, Lock Island, and Phoenix Lock create an impoundment that has a surface area of approximately 1,400 acres at 362.42 feet NAVD 88.

From the impoundment, water flows through the trashrack to a forebay, and then through the powerhouse. Water is discharged from the turbines to an approximately 120-foot-long tailrace that discharges to the Oswego River.

The project includes a trap and transport facility for the upstream passage of American eel that consists of an eel ramp and a plastic eel collection box located approximately 160 feet downstream of the project dam on the east shoreline of the Oswego River. The project also includes a downstream fishway that consists of the 7-foot-long sluice gate and a 4.8-foot-deep concrete plunge pool. Additionally, the project includes an aluminum walkway that provides access to the 206-foot-long Tainter gate section of the dam.

The project generators are connected to the regional electric grid by: a 4.16/34.5-kilovolt (kV) step-up transformer and a 230-foot-long, 34.5-kV underground transmission line.

The minimum and maximum hydraulic capacities of the powerhouse are 500 and 4,580 cubic feet per second (cfs), respectively. The average annual energy production of the Phoenix Project was 10,518 megawatt-hours from 2016 through 2023.

The current license requires Oswego Hydro to operate the project in a run-of-river mode and maintain a maximum impoundment surface elevation of 362.42 feet NAVD88. Oswego Hydro currently maintains the surface elevation of the impoundment between 361.92 feet and 362.42 feet NAVD 88. The current license also requires Oswego Hydro to: (1) release a year-round minimum flow of 300 cfs or inflow, whichever is less, to the Oswego River downstream of the project; and (2) when inflow is less than 1,900 cfs from June 1 through October 31, implement water quality monitoring and, if average tailwater dissolved oxygen drops below 5 milligrams per liter, provide mitigative flow releases for the protection of downstream water quality. Oswego Hydro provides upstream eel passage from June through October, using the trap and transport facility, and provides downstream fish passage year-round using the downstream fishway.

Oswego Hydro proposes to continue operating the project in a run-of-river mode and maintaining the surface elevation of the impoundment at 361.92 to 362.42 feet NAVD 88. Oswego Hydro proposes to continue releasing a year-round minimum flow of 300 cfs or inflow, whichever is less, to the Oswego River downstream of the project, but does not propose to continue water quality monitoring and mitigative flow releases when inflow is less than 1,900 cfs from June 1 through October 31. In addition, Oswego Hydro proposes to continue operating and maintaining the trap and transport facility and the downstream fishway for eel and fish passage. Oswego Hydro proposes to develop a fish passage operation and maintenance plan, implement a Bat and Bald Eagle Protection Plan that it filed in the application, and maintain an existing interpretative display and fencing for the protection of historic properties.

m. A copy of the application can be viewed on the Commission's website at https://www.ferc.gov using the “eLibrary” link. Enter the docket number excluding the last three digits in the docket number field to access the document. For assistance, contact FERC Online Support.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Scoping Process: Pursuant to the National Environmental Policy Act (NEPA), Commission staff will prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings to receive input on the scope of the environmental issues that should be analyzed in the NEPA document. The daytime meeting will focus on the concerns of resource agencies, non-governmental organizations (NGOs), and Indian Tribes. The evening meeting will focus on receiving input from the public. All interested individuals, resource agencies, Indian Tribes, and NGOs are invited to attend one or both of the meetings. The times and locations of these meetings are as follows:

Daytime Scoping Meeting

Date: Thursday, August 8, 2024.

Time: 1:00 p.m. (EDT).

Place: Schroeppel Town Hall.

Address: 69 County Route 57A, Phoenix, NY 13135.

Evening Scoping Meeting

Date: Thursday, August 8, 2024.

Time: 6:00 p.m. (EDT).

Place: Schroeppel Town Hall.

Address: 69 County Route 57A, Phoenix, NY 13135.

Copies of the Scoping Document (SD1) outlining the subject areas to be addressed in the NEPA document were distributed to the parties on the Commission's mailing list. Copies of the SD1 will be available at the scoping meeting or may be viewed on the web at http://www.ferc.gov using the “eLibrary” link (see item m above).

Site Visit

The applicant and Commission staff will hold a site visit at the project beginning at 9:00 a.m. on August 8, 2024. All interested individuals, agencies, Tribes, and NGOs are invited to attend. All participants should meet at the parking area located at the entrance to the powerhouse driveway at 9450 River Street, Phoenix, NY. All participants are responsible for their own transportation and should wear closed-toe shoes/boots. If you plan to attend the site visit, please contact Mr. Tod Nash of Eagle Creek Renewable Energy at (315) 783-5000, or via email at tod.nash@eaglecreekre.com on or before July 29, 2024.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Indian Tribes, and agencies with environmental expertise and concerns are encouraged to attend the meeting and to assist the staff in defining and clarifying the issues to be addressed in the NEPA document.

Debbie-Anne A. Reese,
Acting Secretary.

[FR Doc. 2024-15363 Filed 7-11-24; 8:45 am]

BILLING CODE 6717-01-P